COUNCIL ON ENVIRONMENTAL QUALITY

National Environmental Policy Act (NEPA) Draft Guidance, “NEPA Mitigation and Monitoring.”

AGENCY: Council On Environmental Quality.

ACTION: Notice of Availability, Draft Guidance, “NEPA Mitigation and Monitoring.”

SUMMARY: On February 18, 2010, the Council on Environmental Quality (CEQ) announced four steps to modernize, reinvigorate, and ease the use and increase the transparency of implementation of the National Environmental Policy Act (NEPA). Enacted in 1970, NEPA is a fundamental tool used to harmonize our economic, environmental, and social aspirations and is a cornerstone of our Nation's efforts to protect the environment. NEPA recognizes that many Federal activities affect the environment and mandates that Federal agencies consider the environmental impacts of their proposed actions before acting. Additionally, NEPA emphasizes public involvement in government actions affecting the environment by requiring that the benefits and the risks associated with proposed actions be assessed and publicly disclosed.

CEQ, which is charged with implementing NEPA, recognizes that it is a visionary and versatile law that can be used effectively to address new environmental challenges facing our nation and also to engage the public widely and effectively. Furthermore, CEQ wants to develop more effective and accessible tools for citizen involvement in government decision-making. These actions are designed to provide carefully-tailored new assessment and reporting requirements, facilitate agency compliance with NEPA, and enhance the quality of public involvement in governmental decisions relating to the environment.

DATES: Comments should be submitted on or before May 24, 2010.

ADDRESSES: The NEPA Draft Guidance documents are available at http://www.nepa.gov.

Comments on the NEPA Draft Guidance “NEPA Mitigation and Monitoring” should be submitted electronically to Mitigation.guidance@ceq.eop.gov, or in writing to The Council on Environmental Quality, Attn: Ted Boling, 722 Jackson Place, NW., Washington, DC 20503.

FOR FURTHER INFORMATION CONTACT: Ted Boling, Senior Counsel, at (202) 395-5750.

SUPPLEMENTARY INFORMATION: Draft Guidance Clarifying (1) the Appropriateness of “Findings of No Significant Impact” and (2) Specifying the Need for Ongoing Monitoring of Environmental Mitigation Commitments: Many Federal actions receive an environmental review, known as an Environmental Assessment. In those instances, NEPA compliance is usually completed with a “Finding of No Significant Impact” (FONSI) on the environment and a more detailed Environmental Impact Statement is not required. The draft guidance clarifies that the environmental impacts of a proposed action may be mitigated to the point when the agency may make a FONSI determination, and thereby ease the NEPA review requirements. When the FONSI depends on successful mitigation, however, such mitigation requirements should be made public and be accompanied by monitoring and reporting. The draft guidance reinforces and also applies to monitoring and reporting of mitigation commitments agencies make in an EIS and the Record of Decision that follows. CEQ has issued this draft guidance for 90 days of public comment. Draft guidance documents are now available at the Council on Environmental Quality Web site at http://www.nepa.gov.

Public comments are requested on or before May 24, 2010.

February 18, 2010.
Nancy Sutley,
Chair, Council on Environmental Quality.

[FR Doc. 2010-3535 Filed 2-22-10; 8:45 am]

BILLING CODE 3125-W0-P